DEPARTMENT OF COMMERCE

Foreign-Trade Zones Board

[B-92-2012]

Authorization of Production Activity, Foreign-Trade Subzone 26L, Suzuki Mfg. of America Corp. (All-Terrain Vehicles), Rome, Jonesboro and Cartersville, Georgia

On November 19, 2012, Georgia Foreign-Trade Zone, Inc., grantee of FTZ 26, submitted a notification of proposed production activity to the Foreign-Trade Zones (FTZ) Board on behalf of Suzuki Mfg. of America Corp.

The notification was processed in accordance with the regulations of the FTZ Board (15 CFR part 400), including notice in the Federal Register inviting public comment (77 FR 75972-75973, 12-26-2012). The FTZ Board has determined that no further review of the activity is warranted at this time. The production activity described in the notification is authorized, subject to the FTZ Act and the Board's regulations, including Section 400.14.

Dated: April 11, 2013.
Andrew McGilvray,
Executive Secretary.

[FR Doc. 2013-09048 Filed 4-17-13; 8:45 am]

BILLING CODE P